SECURITIES AND EXCHANGE COMMISSION

[Release No. 34-99265; File No. SR-MEMX-2023-40]

Self-Regulatory Organizations; MEMX LLC; Notice of Withdrawal of Proposed Rule Change To Establish Fees for Industry Members Related to Certain Historical Costs of the National Market System Plan Governing the Consolidated Audit Trail

January 2, 2024.

On December 26, 2023, MEMX LLC (the “Exchange”) filed with the Securities and Exchange Commission (the “Commission”), pursuant to Section 19(b)(1) of the Securities Exchange Act of 1934 (“Act”) ¹ and Rule 19b-4 thereunder,² a proposed rule change to establish fees for industry members related to certain historical costs of the National Market System plan governing the Consolidated Audit Trail. The proposed rule change was noticed for comment on December 29, 2023.³ On January 2, 2024, the Exchange withdrew the proposed rule change.

¹ 15 U.S.C. 78s(b)(1).

² 17 CFR 240.19b-4.

³ See Securities Exchange Act Release No. 99257 (Dec. 29, 2023).

For the Commission, by the Division of Trading and Markets, pursuant to delegated authority.⁴
⁴ 17 CFR 200.30-3(a)(12).
Sherry R. Haywood,
Assistant Secretary.

[FR Doc. 2024-00082 Filed 1-5-24; 8:45 am]

BILLING CODE 8011-01-P